DEPARTMENT OF LABOR

Veterans' Employment and Training Service

Office of the Assistant Secretary for Veterans' Employment and Training; The Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (Pub. L. 109-233) and section 9 of the Federal Advisory Committee Act (FACA) (Pub. L. 92-462, Title 5 U.S.C. app. II). The ACVETEO's authority is codified in Title 38 U.S. Code, section 4110.

The ACVETEO is responsible for assessing employment and training needs of veterans; determining the extent to which the programs and activities of the Department of Labor meet these needs; and assisting in carrying out outreach to employers seeking to hire veterans.

The Advisory Committee on Veterans' Employment, Training and Employer Outreach will meet on Wednesday, May 21st, from 8 a.m. to 4 p.m. at the U.S. Department of Labor, 200 Constitution Avenue, NW., Washington, DC 20210.

The committee will discuss programs assisting veterans seeking employment and raising employer awareness as to the advantages of hiring veterans with special emphasis on the guard/reserve and transition programs.

Individuals needing special accommodations should notify Bill Offutt at (202) 693-4717 by May 9, 2008.

Signed in Washington, DC, this 27th day of March 2008.
John M. McWilliam,
Deputy Assistant Secretary, Veterans Employment and Training.

[FR Doc. E8-6754 Filed 4-2-08; 8:45 am]

BILLING CODE 4510-79-P